LEGAL SERVICES CORPORATION

Request for Letters of Intent To Apply for 2018 Technology Initiative Grant Funding

AGENCY: Legal Services Corporation.

ACTION: Notice.

SUMMARY: The Legal Services Corporation (LSC) issues this Notice describing the process for submission of Letters of Intent to Apply for 2018 funding from the LSC Technology Initiative Grant program. This notice and application information are posted at: https://www.lsc.gov/grants-grantee-resources/our-grant-programs/tig.

DATES: Deadline: Letters of Intent must be completed and submitted into the online system at http://lscgrants.lsc.gov no later than 11:59 p.m. EST, Friday, March 9, 2018. The online system may experience technical difficulties due to heavy traffic on the day of the deadline. Applicants are strongly encouraged to complete LOI submissions as early as possible.

LSC will not accept applications submitted after the application deadline unless an extension of the deadline has been approved in advance (see Waiver Authority). Therefore, allow sufficient time for online submission.

LSC will provide confirmation via email upon receipt of the completed electronic submission of each Letter of Intent. Keep this email as verification that the program's LOI was submitted and received. If no confirmation email is received, inquire about the status of your LOI at Techgrants@lsc.gov.

ADDRESSES: Letters of Intent must be submitted electronically at http://lscgrants.lsc.gov.

FOR FURTHER INFORMATION CONTACT: For information on the status of a current TIG project, contact Eric Mathison, Program Analyst, Telephone: 202-295-1535; Email: emathison@lsc.gov.

For questions about projects in CT, IL, IN, ME, MA, MI, NH, NJ, NY, OH, PA, RI, WI, WV, VT, contact David Bonebrake, Program Counsel, Telephone: 202.295.1547; Email: dbonebrake@lsc.gov.

For questions about projects in AK, AZ, CA, CO, GU, HI, ID, IA, KS, MP, MN, MT, NE, NV, NH, NM, ND, OK, OR, SD, TX, UT, WA, WY, contact Glenn Rawdon, Senior Program Counsel, Telephone: 202.295.1552; Email: grawdon@lsc.gov.

For questions about projects in AL, AR, DC, FL, GA, KY, LA, MD, MS, MO, NC, PR, SC, TN, VI, VA, contact Jane Ribadeneyra, Program Analyst, Telephone: 202.295.1554, Email: ribadeneyraj@lsc.gov.

If you have a general question, please email techgrants@lsc.gov.

SUPPLEMENTARY INFORMATION:

I. Summary

The Legal Services Corporation (LSC) issues this Notice describing the criteria governing submission and processing of Letters of Intent to Apply for Technology Initiative Grants (TIG). Since LSC's TIG program was established in 2000, LSC has made over 700 grants totaling more than $63 million. This grant program funds technology tools that help achieve LSC's goal of increasing the quantity and quality of legal services available to eligible persons. Projects funded under the TIG program develop, test, and replicate innovative technologies that can enable grant recipients and state justice communities to improve low-income persons' access to high-quality legal assistance through an integrated and well managed technology system.

II. General Information

The Legal Services Corporation awards Technology Initiative Grant funds through an open, competitive, and impartial selection process. All prospective applicants for 2018 TIG funds must submit a Letter of Intent to Apply (LOI) prior to submitting a formal application. The format and contents of the LOI should conform to the requirements specified below in Section IV.

Through the LOI process, LSC selects those projects that have a reasonable chance of success in the competitive grant process based on LSC's analysis of the project description and other information provided in the LOI. LSC will solicit full proposals for the selected projects.

LSC Requirements

Technology Initiative Grant funds are subject to all LSC requirements, including the requirements of the Legal Services Corporation Act (LSC Act), any applicable appropriations acts and any other applicable laws, rules, regulations, policies, guidelines, instructions, and other directives of the Legal Services Corporation (LSC), including, but not limited to, the LSC Audit Guide for Recipients and Auditors, the Accounting Guide for LSC Recipients, and the CSR Handbook, with any amendments to the foregoing adopted before or during the period of the grant. Before submitting a Letter of Intent to Apply, applicants should be familiar with LSC's subgrant requirements at 45 CFR Part 1627 (see http://www.lsc.gov/about/laws-regulations/lsc-regulations-cfr-45-part-1600-et-seq), particularly as they pertain to payments of LSC funds to other entities for programmatic activities.

For additional information and resources regarding TIG compliance, including subgrants, third-party contracting, conflicts of interest, grant modification procedures, and special TIG grant assurances, see LSC's TIG compliance web page.

Eligible Applicants

Only current LSC basic field grant recipients awarded at least a one-year basic field grant term are eligible to apply for TIG.

LSC will not award a TIG to any applicant that is not in good standing on any existing TIG projects. Applicants must be up to date according to the milestone schedule on all existing TIG projects prior to submitting an LOI, or have requested and received an adjustment to the original milestone schedule. LSC will not award a TIG to any applicant that has not made satisfactory progress on prior TIGs. LSC recipients that have had a previous TIG terminated for failure to provide timely reports and submissions are not eligible to receive a TIG for three years after their earlier grant was terminated. This policy does not apply to applicants that worked with LSC to end a TIG early after an unsuccessful project implementation resulting from technology limitations, a failed proof of concept, or other reasons outside of the applicant's control.

Funding Availability

The amount of TIG funding available will depend on the 2018 fiscal year appropriation to the LSC from Congress, which had not been determined by January 31, 2018, the date this notice was issued. The federal government is currently operating under a Continuing Resolution (CR) that expires February 8, 2018. The Continuing Resolution maintains funding at FY 2017 levels, which for TIG is $4 million, but with an across-the-board reduction of 0.6791 percent, or $27,164 for TIG. We anticipate that Congress will pass another CR to continue funding the federal government at FY 2017 levels if they do not pass an FY 2018 budget by midnight February 8th. If not, the federal government will shut down. In 2017, 25 TIG projects received funding with a median funding amount of $138,905. (See TIG's past awards web page for more information on past grants).

Collaborations

The TIG program encourages applicants to reach out to and include in TIG projects others interested in access to justice—the courts, bar associations, pro bono projects, libraries, and social service agencies. Partnerships can enhance the reach, effectiveness, and sustainability of many projects.

Grant Categories

LSC will accept projects in three application categories:

(1) Innovations and Enhancements

(2) Replication and Adaptation

(3) Technology Improvement Project

Grant Category 1: Innovations and Enhancements

The Innovations and Enhancements Category is designated for projects that: (1) Implement new or innovative approaches for using technology in legal services delivery; or (2) enhance the effectiveness and efficiency of existing technologies so that they may be better used to increase the quality and quantity of services to clients.

LSC recommends a minimum amount for funding requests in this category of $40,000, but projects with lower budgets will be considered. There is no maximum amount for TIG funding requests that are within the total appropriation for TIG. Although there is no funding limit or matching requirement for applications in this category, additional weight is given to projects with strong support from partners. Proposals for initiatives with broad applicability and/or that would have impact throughout the legal services community are strongly encouraged.

Grant Category 2: Replication and Adaptation

The Replication and Adaptation category is for proposals that seek to replicate, adapt, or provide added value to the work of prior technology projects. This includes, but is not limited to, the implementation and improvement of tested methodologies and technologies from previous TIG projects. Applicants may also replicate technology projects funded outside of the TIG program, including sectors outside the legal aid community, such as social services organizations, the broader non-profit community, and the private sector. LSC recommends a minimum amount for funding requests in this category of $40,000, but projects with lower budgets will be considered. There is no maximum amount for TIG funding requests that are within the total appropriation for TIG.

Project proposals in the Replication and Adaptation category may include, but are not limited to:

A. Replication of Previous TIG Projects

LSC requires that any original software developed with TIG funding be available to other legal services programs at little or no cost. Applicants should look to previous successful TIG projects and determine how they could be replicated at a reduced cost from the original project, and/or how they could be expanded and/or enhanced. Projects where original software or content has already been created lend themselves to replication, and LSC encourages programs to look to these projects to see how they could benefit the delivery systems in their state.

B. Automated Form Replication

Law Help Interactive (LHI) is an automated document server powered by HotDocs Server and made available to any LSC funded program at no charge. See https://lawhelpinteractive.org. LHI is deployed across the country with thousands of active HotDocs templates and A2J Author modules hosted on the LawHelp Interactive National HotDocs Server at https://lawhelpinteractive.org. Despite differences from state to state in the content and format, many of these forms can be edited for use in other jurisdictions with less effort, hence at a lower cost, than developing the form from scratch.

Even if a form differs from one state to another, the information needed to populate a form will, for the most part, be similar. (What are the names of the plaintiff, the defendant, the children, etc.?). This means the interviews are more easily replicated than form templates. These form templates and interviews are available to be modified as needed. Applicants should identify which forms and templates are to be adapted, and then estimate the cost to do this and compare that to the cost of developing them from scratch. LHI has the capacity to support Spanish, Vietnamese, Mandarin and Korean language interviews. In addition, LHI has been integrated with other systems to allow the flow of information between LHI and court e-filing systems and legal aid case management systems. The “Connect” feature enables pro bono programs from across a state to use LHI interviews and forms to assign pre-screened pro bono cases and their documents to panel attorneys. For additional information, including examples, best practices, models and training materials, see the LawHelp Interactive Resource Center at http://www.probono.net/dasupport (you may need to request a free membership to access this website).

C. Replication of Technology Projects in Other Sectors

In addition to replicating other TIG funded technology projects, LSC encourages replication of proven technologies from non-LSC funded legal aid organizations as well as sectors outside the legal aid community. Ideas for replication may be found through resources and organizations such as the Legal Services National Technology Assistance Project (LSNTAP), the American Bar Association, international legal aid providers such as the Legal Services Society of British Columbia and HiiL's Innovating Justice project, Idealware (see the article on Unleashing Innovation), NTEN, and TechSoup.

Grant Category 3: Technology Improvement Projects

In 2015 LSC updated its publication Technologies That Should Be in Place in a Legal Aid Office Today, often referred to as the LSC Technology Baselines. The updated Baselines demonstrate LSC's commitment to improving the use of technology across its grantee organizations. LSC also recognizes that grantees need to have sufficient technology infrastructure in place before they can take on a more innovative TIG project. Therefore, only LSC grantees that have not had a TIG award in the last five years (since 2013) are eligible to apply for a Technology Improvement Project. The maximum amount for funding requests in this category is $25,000 to conduct a technology assessment, business process improvement and/or a technology planning project.

Many legal aid organizations do not have internal expertise or capacity to take on such projects. An award for a Technology Improvement Project is intended to provide funding for appropriate consulting services to conduct the technology assessment, business process improvement and/or technology planning process. The project should result in a plan for the organization to make the investments needed to improve its use of technology in the delivery of legal services.

III. Area of Interest—Projects That Integrate Artificial Intelligence Into Service Delivery

Artificial intelligence (AI) has become a popular topic in the legal services community. This area of interest encourages organizations to explore how practical applications of AI can increase operational efficiency and lead to greater access to services within legal aid. Applicants should consider how emerging AI systems can enhance the existing work of advocates. For example, an AI-powered recommendation engine might help intake staff determine how to best route an online intake, or an AI-powered case management tool could provide attorneys a list of similar closed cases to help inform their legal strategy. In both cases, staff would monitor the quality of recommendations and help improve the system over time.

LSC also believes that client-facing apps can incorporate AI to help low-income individuals complete legal tasks. Products such as the DoNotPay chatbot show that people seeking legal assistance are eager to use these tools, and organizations should focus on how they can provide high-quality user experiences that help users get through their legal process.

In both cases, applicants should aim for using accessible systems with open Application Programming Interfaces (API) that allow legal aid providers to collaborate in this emerging area and result in tools that benefit the entire community. Applicants should also explore how large data sets—such as case or website data—can best be leveraged to improve the quality of these systems.

IV. Specific Letter of Intent To Apply Requirements

One Project per Letter of Intent

Applicants may submit multiple LOIs, and a separate LOI should be submitted for each project for which funding is sought.

Letter Requirements and Format

Letters of Intent must be submitted using the online system at http://lscgrants.lsc.gov. Additional instructions and information can be found on the TIG website. This system will walk you through the process of creating a simple two-page LOI. You will start by picking the Category in which you are applying from a drop-down list. After that, you will be taken to a form to be submitted. You will start by filling in the amount you are requesting from TIG, followed by two questions concerning whether you also are also applying to PBIF for funds related to the project.

Then, for the categories Innovations and Enhancements and Replication and Adaptation, you will have the following five fields:

1. Description of Project (maximum 2500 characters)—Briefly describe the basic elements of the project, including any specific technologies the project will develop or implement, how they will be developed, how they will operate, the function they will serve within the legal services delivery system, their expected impact, and other similar factors. (Only the impact should be highlighted here; more details about the system's benefits should be provided below).

2. Major Benefits (maximum 2500 characters)—Describe the specific ways in which the project will increase or improve services to clients and/or enhance the effectiveness and efficiency of legal aid organization operations. To the extent feasible, discuss both the qualitative and quantitative aspects of these benefits.

3. Estimated Costs (maximum 1500 characters)—This should include the amount of funding you are seeking from the TIG program, followed by the estimated total project cost, summarizing the anticipated costs of the major components of the project. List anticipated contributions, both in-kind and monetary, from all partners involved in the project.

4. Major Partners (maximum 1500 characters)—Identify organizations that are expected to be important partners. Specify the role(s) each partner will play.

5. Innovation/Replication (maximum 1500 characters)—Identify how and why the proposed project is new and innovative and/or is a replication or adaptation of a previous technology project. Identify how and why the proposed project can significantly benefit and/or be replicated by other legal services providers and/or the legal services community at large.

For the category Technology Improvement Project, you will have these four fields:

1. Description of Project (maximum 2500 characters)—Briefly describe what type of project will be undertaken, such as a technology assessment, business process analysis or technology planning process. Describe how this will lead to a plan for improving the program's operations. Also, discuss who will be responsible for carrying out the activities, such as by internal staff or an outside contractor.

2. Major Benefits (maximum 2500 characters)—Describe the promise that the project has to increase or improve services to clients and/or enhance the effectiveness and efficiency of program operations. To the extent feasible, discuss both the qualitative and quantitative aspects of these benefits.

3. Estimated Costs (maximum 1500 characters)—Start by stating the amount of funding you are seeking from the TIG program, and then give the estimated total project cost, summarizing the anticipated costs of the major components of the project. List anticipated contributions, both in-kind and monetary, of all partners involved in the project.

4. Implementation (maximum 1500 characters)—Discuss the organizations commitment to implement the plan or recommendations that result from the project, including probable financing sources.

Selection Process

LSC will initially review all LOIs to determine whether they conform to the required format and clearly present all of the required elements listed and described above. Failure to meet these requirements may result in rejection of the LOI.

LSC will review each LOI to identify those projects likely to improve access to justice, or to improve the efficiency, effectiveness, and quality of legal services provided by grantees. The LOI will also be reviewed to determine the extent to which the project proposed is clearly described and well thought out, offers major benefits to our targeted client community, is cost-effective, involves all of the parties needed to make it successful and sustainable, and is either innovative or a cost-effective replication of prior successful projects. LSC will invite those applicants that satisfy these criteria to submit full applications.

Next Steps for Successful Applicants

LSC will notify successful applicants by April 20, 2018. Successful applicants will have until 11:59 p.m. EDT, Monday, June 4, 2018, to complete and submit full applications in the online application system.

Waiver Authority

LSC, upon its own initiative or when requested, may waive provisions in this Notice at its sole discretion. Waivers may be granted only for requirements that are discretionary and not mandated by statute or regulation. Any request for a waiver must set forth the reason for the request and be included in the application. LSC will not consider a request to extend the deadline for a Letter of Intent to Apply unless the extension request is received by LSC prior to the deadline.

Dated: February 2, 2018.
Katherine Ward,
Executive Assistant to the Vice President for Legal Affairs & General Counsel.

[FR Doc. 2018-02435 Filed 2-6-18; 8:45 am]

BILLING CODE 7050-01-P